DEPARTMENT OF COMMERCE

Foreign-Trade Zones Board

[B-02-2017]

Foreign-Trade Zone (FTZ) 44—Morris County, New Jersey Authorization of Production Activity AGFA Corporation Subzone 44I (Aluminum Digital Printing Plates) Branchburg, New Jersey

On December 19, 2016, AGFA Corporation submitted a notification of proposed production activity to the FTZ Board for its facility within Subzone 44I, in Branchburg, New Jersey.

The notification was processed in accordance with the regulations of the FTZ Board (15 CFR part 400), including notice in the Federal Register inviting public comment (82 FR 2311-2312, January 9, 2017). The FTZ Board has determined that no further review of the activity is warranted at this time. The production activity described in the notification is authorized, subject to the FTZ Act and the FTZ Board's regulations, including Section 400.14.

Dated: April 18, 2017.
Andrew McGilvray,
Executive Secretary.

[FR Doc. 2017-08317 Filed 4-24-17; 8:45 am]

BILLING CODE 3510-DS-P